DEPARTMENT OF HEALTH AND HUMAN SERVICES

Administration for Children and Families

Submission for OMB Review; Comment Request

Proposed Projects

Title: Income Withholding Order/Notice for Support (IWO).

OMB No.: 0970-0154.

Description: The Income Withholding Order/Notice for Support (IWO) is the standard form that must be used to order and notify employers and income providers to withhold child support payments from an obligor's income. It also indicates where employers and other income providers must remit the payments and other information they need to withhold correctly.

Child support agencies, courts, private attorneys, custodial parties, and others must use the IWO form to initiate and amend an income withholding order for support and give notice of income withholding. Child support agencies are required to have automated systems containing current order and case information. Child support agencies providing services to custodial and/or noncustodial parties enter the terms of a child support order established by a tribunal into the state's automated system, which automatically populates the IWO form.

Employers and income providers also use the form to respond to the order/notice with termination or income status information. Employers and other income providers may choose to receive the IWO form from child support agencies on paper or electronically, and may respond on paper or electronically to notify the sender of termination of employment or change in the income status.

The information collection activities pertaining to the IWO form are authorized by 42 U.S.C. 666(a)(1), (a)(8) and 666(b)(6), which require the use of the Income Withholding for Support (IWO) form to order income withholding for all child support orders. 45 CFR 303.100(e)(x) provides that the form require employers to notify state child support agencies when employees are terminated.

Respondents: Courts, private attorneys, custodial parties or their representatives, employers, and other parties that provide income to noncustodial parents.

Annual Burden Estimates
Instrument | Number of respondents | Number of responses per respondent | Average burden hours per response | Total burden hours
Income withholding order/notice (Courts, private attorneys, custodial parties or their representatives) | 3,699,791 | 1.00 | 5 minutes | 308,316
Income withholding orders/termination of employment/income status (Employers and other income providers) | 1,228,320 | 9.34 | 2 minutes | 382,417
Electronic income withholding orders/termination of employment/income status (Employers and other income providers) | 12,427 | 123.76 | 3 seconds | 1,282
Programming for electronic income withholding order/notice (Child support agencies) | 17 | 1 | 240 | 4,080

Estimated Total Annual Burden Hours: 696,095.

Additional Information: Copies of the proposed collection may be obtained by writing to The Administration for Children and Families, Office of Planning, Research and Evaluation, 330 C Street SW., Washington, DC 20201, Attention: Reports Clearance Officer. All inquiries should be identified by the information collection.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV, Attn: Desk Officer for the Administration for Children and Families.

Bob Sargis,
Reports Clearance Officer.

[FR Doc. 2017-11168 Filed 5-31-17; 8:45 am]

BILLING CODE 4184-41-P